ENVIRONMENTAL PROTECTION AGENCY

[EPA-HQ-OAR-2021-0669; FRL-9116-05-OAR]

Phasedown of Hydrofluorocarbons: Notice of Final Administrative Consequences Under the American Innovation and Manufacturing Act Affecting 2024 Allowances

AGENCY: Environmental Protection Agency (EPA).

ACTION: Notice.

SUMMARY: The Environmental Protection Agency (EPA) is providing notice of Agency actions previously taken to establish administrative consequences for specific entities. These previously finalized actions withheld, retired, or revoked the identified entities' calendar year 2024 allowances in accordance with the administrative consequence regulatory provisions.

FOR FURTHER INFORMATION CONTACT: Connor Henderson, U.S. Environmental Protection Agency, Stratospheric Protection Division, telephone number: 202-564-2177; email address: henderson.connor@epa.gov. You may also visit EPA's website at https://www.epa.gov/climate-hfcs-reduction for further information.

SUPPLEMENTARY INFORMATION: The Environmental Protection Agency (EPA) hereby provides notice that it has taken final actions establishing administrative consequences for specific entities under the American Innovation and Manufacturing Act (AIM Act). Each action, which EPA took through a letter issued to the relevant entity, is a separate final action informing the recipient entity of an administrative consequence. The requirements pertaining to administrative consequences are codified in 40 CFR 84.35. Under this provision, EPA can retire, revoke, or withhold the allocation of allowances, or ban an entity from receiving, transferring, or conferring allowances. A retired allowance is one that must go unused and expire at the end of the year; a revoked allowance is one that EPA takes back from an allowance holder and redistributes to all the other allowance holders; and a withheld allowance is one that is retained by the Agency until an allowance holder that has failed to meet a regulatory requirement comes back into compliance, at which point EPA allocates it to the allowance holder. A withheld allowance could become a revoked allowance if the allowance holder fails to meet the applicable regulatory requirement within the timeframe specified by EPA.¹ More information on EPA's approach to administrative consequences can be found at 86 FR 55168 (Allocation Framework Rule).

¹ Administrative consequences that the Agency has finalized can be found here: https://www.epa.gov/climate-hfcs-reduction/administrative-consequences-under-hfc-allocation-rule.

EPA finalized administrative consequences for three entities that imported regulated HFCs without expending the requisite number of consumption allowances at the time of import. The Agency has retired and revoked consumption allowances commensurate with the quantities of regulated substances imported without allowances from the following entities' remaining calendar year 2024 consumption allowances: ChemPenn, LLC (ChemPenn); Tulstar Products (Tulstar); and, USSC Acquisition Corp (USSC). EPA also finalized administrative consequences for one entity (Firetrace) who failed to submit complete HFC reports as required in 40 CFR 84.31. This entity failed to submit complete HFC reports as required, and therefore, EPA withheld 20 percent of Firetrace's calendar year 2024 consumption allowances from any granted requests for additional consumption allowances (RACAs) until the outstanding reports were submitted, and EPA verified them as complete. Table 1 provides a summary of each of the administrative consequences applied to the relevant entities.

Table 1—Summary of Administrative Consequences Affecting Consumption Allowances, Pursuant to
40 CFR 84.35
Entity (effective date) | Number of affected allowances (MTEVe) | Applicable year | Administrative consequence action | Reasoning
ChemPenn (06/06/24) | 32.5 16.3 ᵃ | 2024 2024 | Retire Revoke | Imported regulated HFCs without expending requisite number of allowances.
Tulstar Products (03/31/24) | 31,006.5 15,503.3 ᵃ | 2024 2024 | Retire Revoke | Imported regulated HFCs without expending requisite number of allowances.
USSC Acquisition Corp (03/31/24) | 2.3 1.2 ᵃ | 2024 2024 | Retire Revoke | Imported regulated HFCs without expending requisite number of allowances.
Firetrace (02/26/24) | 20 percent of granted RACAs | 2024 | Withhold ᵇ | Failure to submit complete HFC reports as required in 40 CFR 84.31.
ᵃ As stated in the Allocation Framework Rule, EPA explained it would take a 50% premium in first instances of administrative consequences. These values correspond to 50% of the full amount of consumption without requisite allowances at the time of production and/or import.
ᵇ Subsequent to finalization of the administrative consequence, Firetrace submitted its outstanding reports. Subsequently, EPA is no longer withholding 20% of granted RACAs.

Adjustments to Consumption Allowances

EPA notes that entities in Table 1 who imported without expending the requisite number of consumption allowances at the time of import are not eligible to receive allowances that are redistributed (to entities that were directly issued calendar year 2024 consumption allowances by EPA) as a result of allowances revoked if the administrative consequence action took effect on the same day, with the exception of entities who had their allowance withheld (regardless of effective date).² There are two separate batches of effective dates for redistribution of revoked consumption allowances: allowances that were revoked effective March 31, 2024 (15,504.5 MTEVe, i.e., the sum of 15,503.3 MTEVe and 1.2 MTEVe); and, allowances that were revoked effective June 6, 2024 (16.3 MTEVe). In the former, neither Tulstar nor USSC are eligible for redistribution of the affected allowances but ChemPenn is eligible, as are all other entities to whom EPA issued consumption allowances for calendar year 2024; in the latter, ChemPenn is not eligible for redistribution of the affected allowances but Tulstar and USSC are eligible, as are all other entities to whom EPA issued consumption allowances for calendar year 2024. As EPA did not issue consumption allowances to Firetrace for calendar year 2024, this entity is not eligible to receive any of the redistributed allowances described herein. A summary of the number of revoked and redistributed allowances available to each eligible entity from each batch of effective dates is included in table 2 and table 3.

² An identical approach was taken in “Phasedown of Hydrofluorocarbons: Notice of 2024 Allowance Allocations for Production and Consumption of Regulated Substances Under the American Innovation and Manufacturing Act of 2020, and Notice of Final Administrative Consequences” (88 FR 72060).

Table 2—Number of Consumption Allowances Available to Eligible Entities Due to Finalized Administrative Consequences With an Effective Date of March 31, 2024
Entity | Additional allowances being allocated to each entity (MTEVe)
A.C.S. Reclamation & Recovery (Absolute Chiller Services) | 11.4
Ability Refrigerants | 11.4
ACT Commodities | 0.0
Advance Auto Parts | 40.8
Advanced Specialty Gases | 16.3
AFK & Co | 11.1
AFS Cooling | 11.4
A-Gas | 194.8
Air Liquide USA | 28.5
American Air Components ᵃ | 11.4
Arkema | 1,775.3
Artsen | 58.7
Automart Distributors DBA Refrigerant Plus | 11.4
AutoZone Parts | 115.5
AW Product Sales & Marketing | 6.9
Bluon ᵃ | 1.9
CC Packaging | 11.1
Chemours | 1,957.9
Chemp Technology | 11.4
ChemPenn | 1.3
ComStar International | 20.6
Creative Solution | 11.4
Cross World Group | 11.4
Daikin America | 178.3
EDX Industry | 32.8
Electronic Fluorocarbons | 6.0
Fireside Holdings DBA American Refrigerants | 11.4
First Continental International | 44.0
FluoroFusion Specialty Chemicals | 145.8
Freskoa USA | 11.4
GlaxoSmithKline | 30.8
Golden Refrigerant | 11.4
Harp USA | 43.7
Honeywell International | 4,704.3
Hudson Technologies | 194.9
Hungry Bear | 11.4
ICool USA | 194.6
IGas Holdings | 1,491.5
Iofina Chemical | 0.1
Kidde-Fenwal | 11.4
Lenz Sales & Distribution | 63.4
Lina Trade | 11.4
Linde | 30.4
Matheson Tri-Gas | 2.0
MEK Chemical Corporation | 4.8
Meraki Group | 11.4
Metalcraft | 9.2
Mexichem Fluor DBA Koura | 1,455.6
Mondy Global | 18.2
National Refrigerants | 1,131.5
Nature Gas Import and Export | 46.8
North American Refrigerants | 11.4
O23 Energy Plus | 11.4
Perfect Score Too DBA Perfect Cycle | 2.2
Reclamation Technologies | 34.1
Resonac America (formerly Showa Chemicals of America) ᵃ | 3.8
RGAS (formerly listed as Combs Gas) | 261.4
RMS of Georgia | 94.2
Sciarra Labratories | 0.5
SDS Refrigerant Services | 11.4
Solvay Fluorides | 63.0
Summit Refrigerants | 11.4
SynAgile Corporation | 0.1
Technical Chemical | 195.1
TradeQuim | 11.4
Transocean Offshore Deepwater Drilling | 0.0
Tulstar Products | ineligible
Tyco Fire Products | 11.4
USSC Acquisition Corp | ineligible
Walmart | 130.3
Waysmos USA | 32.0
Wego Chemical Group | 3.2
Weitron | 362.1
Wesco HMB | 11.4
Wilhelmsen Ships Service | 2.3
Total | 15,504.5
ᵃ As described in “Phasedown of Hydrofluorocarbons: Notice of 2024 Allowance Allocations for Production and Consumption of Regulated Substances Under the American Innovation and Manufacturing Act of 2020, and Notice of Final Administrative Consequences” (88 FR 72060), EPA will retire (and revoke) allowances from these entities until their full administrative consequences are covered. As a result, the allowances allocated to this entity were subsequently retired.

Table 3—Number of Consumption Allowances Available to Eligible Entities Due to Finalized Administrative Consequences With an Effective Date of June 6, 2024
Entity | Additional allowances being allocated to each entity (MTEVe)
A.C.S. Reclamation & Recovery (Absolute Chiller Services) | 0.0
Ability Refrigerants | 0.0
ACT Commodities | 0.0
Advance Auto Parts | 0.1
Advanced Specialty Gases | 0.0
AFK & Co | 0.0
AFS Cooling | 0.0
A-Gas | 0.2
Air Liquide USA | 0.0
American Air Components ᵃ | 0.0
Arkema | 1.9
Artsen | 0.1
Automart Distributors DBA Refrigerant Plus | 0.0
AutoZone Parts | 0.1
AW Product Sales & Marketing | 0.0
Bluon ᵃ | 0.0
CC Packaging | 0.0
Chemours | 2.1
Chemp Technology | 0.0
ChemPenn | 0.0
ComStar International | 0.0
Creative Solution | 0.0
Cross World Group | 0.0
Daikin America | 0.2
EDX Industry | 0.0
Electronic Fluorocarbons | 0.0
Fireside Holdings DBA American Refrigerants | 0.0
First Continental International | 0.1
FluoroFusion Specialty Chemicals | 0.2
Freskoa USA | 0.0
GlaxoSmithKline | 0.0
Golden Refrigerant | 0.0
Harp USA | 0.1
Honeywell International | 4.9
Hudson Technologies | 0.2
Hungry Bear | 0.0
ICool USA | 0.2
IGas Holdings | 1.6
Iofina Chemical | 0.0
Kidde-Fenwal | 0.0
Lenz Sales & Distribution | 0.1
Lina Trade | 0.0
Linde | 0.0
Matheson Tri-Gas | 0.0
MEK Chemical Corporation | 0.0
Meraki Group | 0.0
Metalcraft | 0.0
Mexichem Fluor DBA Koura | 1.5
Mondy Global | 0.0
National Refrigerants | 1.2
Nature Gas Import and Export | 0.1
North American Refrigerants | 0.0
O23 Energy Plus | 0.0
Perfect Score Too DBA Perfect Cycle | 0.0
Reclamation Technologies | 0.0
Resonac America (formerly Showa Chemicals of America) ᵃ | 0.0
RGAS (formerly listed as Combs Gas) | 0.3
RMS of Georgia | 0.1
Sciarra Labratories | 0.0
SDS Refrigerant Services | 0.0
Solvay Fluorides | 0.1
Summit Refrigerants | 0.0
SynAgile Corporation | 0.0
Technical Chemical | 0.2
TradeQuim | 0.0
Transocean Offshore Deepwater Drilling | 0.0
Tulstar Products | 0.1
Tyco Fire Products | 0.0
USSC Acquisition Corp | 0.0
Walmart | 0.2
Waysmos USA | 0.0
Wego Chemical Group | 0.0
Weitron | 0.4
Wesco HMB | 0.0
Wilhelmsen Ships Service | 0.0
Total | 16.3
ᵃ As described in “Phasedown of Hydrofluorocarbons: Notice of 2024 Allowance Allocations for Production and Consumption of Regulated Substances Under the American Innovation and Manufacturing Act of 2020, and Notice of Final Administrative Consequences” (88 FR 72060), EPA will retire (and revoke) allowances from these entities until their full administrative consequences are covered.

Judicial Review

The AIM Act provides that certain sections of the Clean Air Act (CAA) “shall apply to” the AIM Act and actions “promulgated by the Administrator of [EPA] pursuant to [the AIM Act] as though [the AIM Act] were expressly included in title VI of [the CAA].” 42 U.S.C. 7675(k)(1)(C). Among the applicable sections of the CAA is section 307, which includes provisions governing judicial review. 42 U.S.C. 7607(b)(1). Each adjudicatory action establishing an administrative consequence as described in this notice is a final action previously taken by EPA. Under section 307(b)(1) of the CAA, any petition for review of such a final action shall be filed in the United States Court of Appeals for the appropriate circuit by December 6, 2024. Filing a petition for reconsideration by the Administrator does not affect the finality of any such action for purposes of judicial review nor does it extend the time within which a petition for judicial review may be filed and shall not postpone the effectiveness of such action. The final actions described herein may not be challenged later in proceedings to enforce their requirements. 42 U.S.C. 7607(b)(2).

Cynthia A. Newberg,
Director, Stratospheric Protection Division.

[FR Doc. 2024-23138 Filed 10-4-24; 8:45 am]

BILLING CODE 6560-50-P